DEPARTMENT OF HOMELAND SECURITY

Coast Guard

33 CFR Part 117

[Docket No. USCG-2014-0988]

Drawbridge Operation Regulation; Three Mile Creek, Mobile, AL

AGENCY: Coast Guard, DHS.

ACTION: Notice of deviation from drawbridge regulation.

SUMMARY: The Coast Guard has issued a temporary deviation from the operating schedule that governs the CSX Transportation Railroad Swing Span Bridge across Three Mile Creek, mile 0.3, at Mobile, Baldwin County, Alabama. This deviation is necessary to conduct maintenance to the bridge. This deviation allows the bridge to remain temporarily closed to navigation for twelve hours during one day and then operate during daylight hours only for eight consecutive days within a span of nine days.

DATES: This deviation is effective from 7:00 a.m. on Thursday, November 27, 2014, through 6:00 p.m. on Friday, December 5, 2014.

ADDRESSES: The docket for this deviation, [USCG-2014-0988] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Geri Robinson, Bridge Administration Branch, Coast Guard; telephone 504-671-2128, email Geri.A.Robinson@uscg.mil. If you have questions on viewing the docket, call Cheryl F. Collins, Program Manager, Docket Operations, telephone 202-366-9826.

SUPPLEMENTARY INFORMATION: CSX Transportation requested a temporary deviation to repair the center bearing and rack circle, which affects the opening and closing of the swing span bridge across Three Mile Creek at mile 0.3 at Mobile, Baldwin County, Alabama. This maintenance is essential for the continued operation of the bridge and is expected to guard against frequent breakdowns resulting in emergency bridge closures. The bridge owner plans to replace the center bearing and rehabilitate the rack circle. To accomplish the necessary repairs, the bridge owner requested that the bridge be allowed to remain closed to navigation for twelve consecutive hours on Thursday, November 27, 2014 from 7 a.m. until 7 p.m. to replace the center bearing. Immediately following this closure, the bridge owner will open the bridge to allow all vessels to clear the queue. After clearing the queue, the bridge will be closed to navigation until Friday, November 28, at 8 a.m. At that time, the bridge will open on signal from 8 a.m. until 6 p.m. for eight consecutive days. During evening and nighttime hours, between 6 p.m. and 8 a.m., the bridge will open at midnight for the passage of vessels if at least two hours advanced notice is given. During this temporary deviation, the bridge owner will rehabilitate and reinstall the rack circle. During this time period, the bridge will be opened by use of an assist tug and operations may take longer than normal. At 6 p.m. on Friday, December 5, 2014, the bridge will return to normal operation.

The swing span bridge has a vertical clearance of 10 feet above mean high water and 12 feet above mean low water in the closed-to-navigation position. Navigation on the waterway is primarily commercial, consisting of tugs with tows and fishing vessels. There is no recreational boat traffic at the bridge site. These closures have been discussed with waterway users and facilities and no objections to the closure have been expressed. In accordance with 33 CFR 117.5, the draw of the bridge opens on signal. No alternate routes are available.

In accordance with 33 CFR 117.35(e), this bridge must return to its regular operating schedule immediately at the end of the effective period of this temporary deviation. This deviation from the operating regulations is authorized under 33 CFR 117.35.

Dated: November 10, 2014.
David M. Frank,
Bridge Administrator, Eighth Coast Guard District.

[FR Doc. 2014-27811 Filed 11-21-14; 8:45 am]

BILLING CODE 9110-04-P